FEDERAL COMMUNICATIONS COMMISSION

47 CFR Part 73

[DA 01-1737; MM Docket No. 01-91; RM-10096]

Radio Broadcasting Services; Hugo, Colorado

AGENCY: Federal Communications Commission.

ACTION: Final rule.

SUMMARY: This document allots Channel 222A to Hugo, Colorado, as that community's first local aural transmission service, in response to a petition for rule making filed by Alan Olson. See 66 FR 21727, May 1, 2001. Coordinates used for Channel 222A at Hugo, Colorado, are 39-08-10 NL and 103-28-10 WL.

DATES: Effective September 4, 2001. A filing window for Channel 222A at Hugo, Colorado, will not be opened at this time. Instead, the issue of opening the allotment for auction will be addressed by the Commission in a subsequent Order.

FOR FURTHER INFORMATION CONTACT: Nancy Joyner, Mass Media Bureau, (202) 418-2180. Questions related to the application filing process should be addressed to the Audio Services Division, (202) 418-2700.

SUPPLEMENTARY INFORMATION: This is a synopsis of the Commission's Report and Order, MM Docket No. 01-91, adopted July 11, 2001, and released July 20, 2001. The full text of this Commission decision is available for inspection and copying during normal business hours in the FCC's Reference Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Hugo, Channel 222A.

Federal Communications Commission.
John A. Karousos,
Chief, Allocations Branch, Policy and Rules Division, Mass Media Bureau.

[FR Doc. 01-18987 Filed 7-30-01; 8:45 am]

BILLING CODE 6712-01-P